DEPARTMENT OF ENERGY

Federal Energy Regulatory Commission

[Docket No. CP03-351-000]

Columbia Gas Transmission Corporation; Notice of Request Under Blanket Authorization

September 25, 2003.

Take notice that on September 12, 2003, Columbia Gas Transmission Corporation (Columbia), 12801 Fair Lakes Parkway, Fairfax, Virginia 22030-0146, filed in Docket No. CP03-351-000, a request pursuant to Sections 157.205 and 157.208 of the Commission's Regulations under the Natural Gas Act (18 CFR Sections 157.205 and 157.208) for authorization to increase the maximum allowable operating pressure (MAOP) of portions of its existing transmission pipeline designated as Line 1655 and Line 136 located in Adams and York Counties, Pennsylvania, under Columbia's blanket certificate issued in Docket No. CP83-76-000 pursuant to Section 7(C) of the Natural Gas Act, all as more fully set forth in the request.

Copies of this request are on file with the Commission and are available for public inspection. The application may also be viewed on the Web at http://www.ferc.gov using the “eLibrary” link. Enter the docket number excluding the last three digits in the docket number field to access the document. For assistance, please contact FERC Online Support at FERCOnlineSupport@ferc.gov or toll-free at (866) 208-3676, or for TTY, contact (202) 502-8659.

Columbia states that the increased MAOPs are necessary in order to meet its existing contractual obligations. Columbia states further, that to the extent uncommitted capacity becomes available as a result of the uprate, Columbia would post such available capacity in accordance with the applicable provisions of its tariff.

Any questions regarding the application should be directed to Fredric J. George, Senior Attorney, Columbia Gas Transmission Corporation, P.O. Box 1273, Charleston, West Virginia 22030-0146 at (304) 357-2359, fax (304) 357-3206.

There are two ways to become involved in the Commission's review of this project. First, any person wishing to obtain legal status by becoming a party to the proceedings for this project should, on or before the comment date below, file with the Federal Energy Regulatory Commission, 888 First Street, NE., Washington, DC 20426, a motion to intervene in accordance with the requirements of the Commission's Rules of Practice and Procedure (18 CFR 385.214) and the Regulations under the NGA (18 CFR 157.205). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link.

If no protest is filed within the time allowed, therefore, the proposed activity shall be deemed to be authorized effective the day after the time allowed for filing a protest. If a protest is filed and not withdrawn within 30 days after the time allowed for filing a protest, the instant request shall be treated as an application for authorization pursuant to Section 7 of the Natural Gas Act.

Comment Date: October 16, 2003.

Linda Mitry,
Acting Secretary.

[FR Doc. 03-24882 Filed 10-1-03; 8:45 am]

BILLING CODE 6717-01-P